DEPARTMENT OF HOMELAND SECURITY

U.S. Citizenship and Immigration Services

Agency Information Collection Activities: Extension of a Currently Approved Collection; Comment Request

ACTION: 30-day notice of information collection under review; Supplement A to Form I-539 (filing instructions for V nonimmigrant status) Form I-539-Supp. A.

The Department of Homeland Security, U.S. Citizenship and Immigration Services (USCIS) has submitted the following information collection request to the Office of Management and Budget (OMB) for review and clearance in accordance with the Paperwork Reduction Act of 1995. The information collection was previously published in the Federal Register on October 8, 2004 at 69 FR 60412, allowed a 60-day public comment period. The USCIS did not receive any comments during that period on this information collection.

The purpose of this notice is to allow an additional 30 days for public comments. Comments are encouraged and will be accepted until February 7, 2004. This process is conducted in accordance with 5 CFR Part 1320.10.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of currently approved information collection.

(2) Title of the Form/Collection: Supplement A to Form I-539 (Filing Instructions for V Nonimmigrant Status Applicants).

(3) Agency form number, if any, and the applicable component sponsoring the collection: Form I-539 Supplement A. U.S. Citizenship and Immigration Services.

(4) Affected public who will be asked or required to respond, as well as a brief abstract: Primary: Individuals or Households. This form is used by nonimmigrants to apply for extension of stay or change of nonimmigrant status or for obtaining V nonimmigrant classification. The USCIS will use the data on this form to determine eligibility for the requested benefit.

(5) An estimate of the total number of respondents and the amount of time estimated for an average respondent to respond: 427,000 responses at 30 minutes (.50) per response.

(6) An estimate of the total public burden (in hours) associated with the collection: 213,500 annual burden hours.

If you have comments, suggestions, or need a copy of the proposed information collection instrument, please contact Mr. Richard A. Sloan, Director, Regulatory Management Division, U.S. Citizenship and Immigration Services, 111 Massachusetts Avenue, NW., Washington, DC 20529; (202) 272-8377.

Dated: December 30, 2004.
Richard A. Sloan,
Director, Regulatory Management Division, U.S. Citizenship and Immigration Services.

[FR Doc. 05-219 Filed 1-5-05; 8:45 am]

BILLING CODE 4410-10-M